DEPARTMENT OF COMMERCE

Bureau of Industry and Security

15 CFR Parts 700, 719, 720, 766

[Docket No. 020417087-2150-02]

RIN 0694-XX21

Industry and Security Programs

AGENCY: Bureau of Industry and Security, Commerce.

ACTION: Final rule.

SUMMARY: On April 18, 2002, the Bureau of Export Administration changed its name to the Bureau of Industry and Security, and made conforming changes in its regulations (67 FR 20630, April 26, 2002). Consistent with that change, effective May 17, 2002, the names of the “Office of Chief Counsel for Export Administration” and the “Chief Counsel for Export Administration” were changed to the “Office of Chief Counsel for Industry and Security” and the “Chief Counsel for Industry and Security,” respectively. This rule makes appropriate conforming changes in chapter VII of title 15 of the Code of Federal Regulations to reflect these additional name changes.

DATES: This rule is effective as of May 17, 2002.

FOR FURTHER INFORMATION CONTACT: Peter Klason, Office of Chief Counsel for Industry and Security, at (202) 482-5301.

SUPPLEMENTARY INFORMATION:

Savings Provision

This rule constitutes notice that all references to the Office of Chief Counsel for Export Administration or Chief Counsel for Export Administration in any documents, statements, or other communications, in any form or media, and whether made before, on, or after the effective date of this rule, shall be deemed to be references to the Office of Chief Counsel for Industry and Security or Chief Counsel for Industry and Security, respectively. Any actions undertaken in the name of or on behalf of the Office of Chief Counsel for Export Administration or Chief Counsel for Export Administration, whether taken before, on, or after the effective date of this rule, shall be deemed to have been taken in the name of or on behalf of the Office of Chief Counsel for Industry and Security or the Chief Counsel for Industry and Security, respectively.

Rulemaking Requirements

1. This final rule has been determined to be exempt from review for purposes of Executive Order 12866.

2. This rule does not impose information collection and recordkeeping requirements. Consequently, it need not be reviewed by the Office of Management and Budget under the provisions of the Paperwork Reduction Act of 1995.

3. This rule does not contain policies with Federalism implications as the term is defined in Executive Order 13132.

4. The provisions of the Administrative Procedure Act (5 U.S.C. 553) requiring notice of proposed rulemaking, the opportunity for public participation, and a delay in effective date, are inapplicable because this rule involves a rule of agency organization, procedure, or practice. 5 U.S.C. 553(b)(B). Further, no other law requires that a notice of proposed rulemaking and an opportunity for public comment be given for this final rule. Because a notice of proposed rulemaking and an opportunity for public comment are not required to be given for this rule under 5 U.S.C. or by any other law, the analytical requirements of the Regulatory Flexibility Act (5 U.S.C. 601, et seq. ) are not applicable.

List of Subjects

15 CFR Part 700

Administrative practice and procedure, Business and industry, Government contracts, National defense, Reporting and recordkeeping requirements, Strategic and critical materials.

15 CFR Part 719

Administrative practice and procedure, Chemicals, Exports, Imports, Penalties, Violations.

15 CFR Part 720

Administrative practice and procedure, Exports, Penalties, Violations.

15 CFR Part 766

Administrative practice and procedure, Confidential business information, Exports, Foreign trade, Law enforcement, Penalties.

For the reasons set forth in the preamble, 15 CFR chapter VII is amended as set forth below:

PART 700—DEFENSE PRIORITIES AND ALLOCATIONS SYSTEM

1. The authority citation for part 700 continues to read as follows:

Authority: Titles I and VII of the Defense Production Act of 1950, as amended (50 U.S.C. app. 2061 et seq.), Title VI of the Robert T. Stafford Disaster Relief and Emergency Assistance Act (42 U.S.C. 5195 et seq.), and Executive Order 12919, 59 FR 29525, 3 CFR, 1994 Comp., p. 901; Section 18 of the Selective Service Act of 1948 (50 U.S.C. app. 468), 10 U.S.C. 2538, 50 U.S.C. 82, and Executive Order 12742, 56 FR 1079, 3 CFR, 1991 Comp., p. 309; and Executive Order 12656, 53 FR 226, 3 CFR, 1988 Comp., p. 585.

§ 700.72 [Amended]

2. In § 700.72(b) revise “Chief Counsel for Export Administration” to read “Chief Counsel for Industry and Security”.

PART 719—ENFORCEMENT

3. The authority citation for part 719 continues to read as follows:

Authority: 22 U.S.C. 6701 et seq.; 50 U.S.C. 1601 et seq.; 50 U.S.C. 1701 et seq.; E.O. 12938, 59 FR 59099, 3 CFR, 1994 Comp., p. 950; E.O. 13128, 64 FR 36703.

4. In § 719.1(b), revise the definition of “Office of Chief Counsel” to read as follows:

§ 719.1 Scope and definitions.

* * * * *

(b) * * *

Office of Chief Counsel. The Office of Chief Counsel for Industry and Security, United States Department of Commerce.

* * * * *

§ 719.8 [Amended]

5. In § 719.8(b) revise “Office of Chief Counsel for Export Administration” to read “Office of Chief Counsel for Industry and Security”.

PART 720—DENIAL OF EXPORT PRIVILEGES

6. The authority citation for part 720 continues to read as follows:

Authority: 22 U.S.C. 6701 et seq.; E.O. 13128, 64 FR 36703.

§ 720.3 [Amended]

7. In § 720.3(c) revise “Office of Chief Counsel for Export Administration” to read “Office of Chief Counsel for Industry and Security”.

PART 766—ADMINISTRATIVE ENFORCEMENT PROCEEDINGS

8. The authority citation for part 766 continues to read as follows:

Authority: 50 U.S.C. app. 2401 et seq.; 50 U.S.C. 1701 et seq.; E.O. 12924, 59 FR 43437, 3 CFR, 1994 Comp., p. 917; Notice of August 10, 1999, 64 FR 44101 (August 13, 1999).

§ 766.4 [Amended]

9. In § 766.4 revise “Office of Chief Counsel for Export Administration” to read “Office of Chief Counsel for Industry and Security”.

§ 766.5 [Amended]

10. In § 766.5(b) revise “Chief Counsel for Export Administration” to read “Chief Counsel for Industry and Security”.

Dated: June 25, 2002.
Kenneth I. Juster,
Under Secretary for Industry and Security.

[FR Doc. 02-17154 Filed 7-9-02; 8:45 am]

BILLING CODE 3510-33-P